Title 3—

The President

Executive Order 13516—Amending Executive Order 13462

Correction

In Presidential document E9-26408 beginning on page 56521 in the issue of Monday, November 2, 2009, make the following correction:

On page 56521, the Executive Order number and date line at the beginning of the document should read “Executive Order 13516 of October 28, 2009.”

[FR Doc. Z9-26408

Filed 11-4-09; 8:45 am]

Billing Code 1505-01-D